DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: National Voluntary Conformity Assessment Systems Evaluation (NVCASE) Program.

Form Number(s): None.

OMB Approval Number: 0693-0019.

Type of Request: Regular submission.

Burden Hours: 30.

Number of Respondents: 10.

Average of Hours Per Response: 3.

Needs and Uses: The information collected is used by NIST to evaluate conformity assessment bodies that are applying for recognition to provide needed services to U.S. manufacturers whose products must satisfy mandatory regulations of the importing country prior to import.

Affected Public: Business or other for profit organizations, not-for-profit institutions.

Frequency: On occasion, annually.

Respondent's Obligation: Required to obtain or retain benefits.

OMB Desk Officer: David Rostker, (202) 395-3897.

Copies of the above information collection proposal can be obtained by calling or writing Madeleine Clayton, Departmental Paperwork Clearance Officer, (202) 482-3129, Department of Commerce, Room 6608, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 28, 2002.
Madeleine Clayton,
Departmental Paperwork Clearance Officer, Office of the Chief Information Officer.

[FR Doc. 02-5370 Filed 3-6-02; 8:45 am]

BILLING CODE 3510-01-M